DEPARTMENT OF ENERGY

Federal Energy Regulatory Commission

Notice Reminding Intrastate Pipelines To File FERC-549 (The Intrastate Pipeline Annual Transportation Report)

February 5, 2007.

Take notice that intrastate pipelines transporting natural gas under section 311 of the Natural Gas Policy Act in accordance with the Commission's regulations 18 CFR 284.126(b) (2006), are required to file FERC-549, “Intrastate Pipeline Annual Transportation Report,” by March 31, 2007.

The FERC-549 is an annual report filed by intrastate pipelines providing the following information for each transportation service (except storage) provided under § 284.122: (1) The name of the shipper receiving the transportation service; (2) the type of service performed (i.e., firm or interruptible); (3) total volumes transported for the shipper (if it is firm service, the report must separately state reservation and usage revenues); and (4) total revenues received for the shipper (if it is firm service, the report must separately state reservation and usage revenues).

More information on this filing can be found on the Commission's Web site: http://www.ferc.gov/docs-filing/hard-fil.asp#549. Questions may be e-mailed to FERC-549@ferc.gov.

Magalie R. Salas,
Secretary.

[FR Doc. E7-2269 Filed 2-9-07; 8:45 am]

BILLING CODE 6717-01-P